DEPARTMENT OF HEALTH AND HUMAN SERVICES

Centers for Disease Control and Prevention

National Institute for Occupational Safety and Health (NIOSH) of the Centers for Disease Control and Prevention (CDC) Announces the Following Meeting and Opening of the Public Comment Period

Name: The Draft Document: NIOSH Current Intelligence

Bulletin: Evaluation of Health Hazard and Recommendations for Occupational Exposure to Titanium Dioxide.

Meeting Date and Time: February 27, 2006, 9 a.m.-4 p.m.

Place: Robert A. Taft Laboratories, Taft Auditorium, NIOSH, CDC, 4676 Columbia Parkway, Cincinnati, Ohio 45226.

Purpose: To explain and discuss the scientific basis for the draft document, “NIOSH Current Intelligence Bulletin: Evaluation of Health Hazard and Recommendations for Occupational Exposure to Titanium Dioxide,” current research on titanium dioxide, and information on occupational exposure to titanium dioxide. Special emphasis will be placed on discussion of the following:

(1) What animal and human data best describe the health concerns from exposure to titanium dioxide; (2) What strategies are being used to control occupational exposure to titanium dioxide (e.g., engineering controls, work practices, personal protective equipment); (3) In which workplaces and occupations can exposure to titanium dioxide occur; (4) What challenges exist in measuring workplace exposures to titanium dioxide; (5) What are areas for future collaborative efforts (e.g., research, communication, development of exposure measurement and control strategies)?

The public is invited to attend and will have the opportunity to provide comments.

NIOSH seeks to obtain materials, including published and unpublished reports and research findings, to evaluate the possible health risks of occupational exposure to titanium dioxide (including particle size-specific information). Examples of requested information include, but are not to be limited to, the following: (1) Identification of industries or occupations in which exposures to titanium dioxide may occur; (2) Trends in the production and use of titanium dioxide; (3) Description of work tasks and scenarios with a potential for exposure to titanium dioxide; (4) Current and historical exposure measurement data in various types of industries and jobs; (5) Case reports or other health information demonstrating health effects in workers exposed to titanium dioxide; (6) Reports of experimental in vivo and in vitro studies that provide evidence of a dose-relationship between the particle size of a substance and its biological activity; (7) Reports of experimental inhalation studies with rodents demonstrating a relationship between the particle size or surface area of a substance and lung inflammation, fibrosis, and biochemical mediators; (8) Description of work practices and engineering controls used to reduce or prevent workplace exposure to titanium dioxide. (9) Educational materials for worker safety and training on the safe handling of titanium dioxide; (10) Data pertaining to the feasibility of establishing particle size-specific RELs for titanium dioxide.

NIOSH will use this information to assess the scientific basis for the draft worker health recommendations contained in the draft Current Intelligence Bulletin and determine the need for revision to those draft recommendations for reducing occupational exposure to titanium dioxide.

Status: The forum will include scientists and representatives from various government agencies, industry, labor, and other stakeholders, and is open to the public, limited only by the space available. The meeting room accommodates 80 people. Due to limited space, notification of intent to attend the meeting must be made to Diane Miller no later than February 14, 2006. Ms. Miller can be reached by telephone at 513/533-8450 or by e-mail at niocindocket@cdc.gov. Requests to attend the meeting will be accommodated on a first-come basis.

Non-U.S. Citizens: Because of CDC Security Regulations, any non-U.S. citizen wishing to attend this meeting must provide the following information in writing to Diane Miller at the address below no later than February 14, 2006: (1) Visitor's full name; (2) Gender; (3) Date of Birth; (4) Place of birth (city, province, state, country); (5) Citizenship; (6) Passport number; (7) Date of passport issue; (8) Date of passport expiration; (9) Type of Visa; (10) Visitor's organization; (11) Organization address; (12) Organization telephone number; (13) Visitor's position/title within the organization.

This information will be transmitted to the CDC Security Office for approval. Visitors will be notified as soon as approval has been obtained.

A copy of the draft Current Intelligence Bulletin Evaluation of Health Hazard and Recommendations for Occupational Exposure to Titanium Dioxide can be obtained from the Internet at http://www.cdc.gov/niosh/docs/preprint/tio2 or a hard copy may be requested from the Docket Officer, Diane Miller (contact information below).

Addresses: Comments should be submitted to the NIOSH Docket Office, ATTN: Diane Miller, Robert A. Taft Laboratories, 4676 Columbia Parkway, M/S C-34, Cincinnati, Ohio 45226, telephone 513/533-8450, fax 513/533-8285.

Comments may also be submitted directly through the Web site (http://www.cdc.gov/niosh/docs/preprint/tio2) or by e-mail to niocindocket@cdc.gov. E-mail attachments should be formatted in Microsoft Word. Comments should be submitted to NIOSH no later than March 31, 2006, and should reference docket number NIOSH-033 in the subject heading.

Oral comments made at the public meeting must also be submitted to the docket in writing in order to be considered by the Agency.

All information received in response to this notice will be available for public examination and copying at the NIOSH Docket Office, Room 111, 4676 Columbia Parkway, Cincinnati, Ohio 45226.

Contact Persons For Technical Information: Christine Sofge 513/533-8439 or Faye Rice 513/533-8335, M/S C-15, Robert A. Taft Laboratories, 4676 Columbia Parkway, Cincinnati, Ohio 45226.

The Director, Management Analysis and Services Office, has been delegated the authority to sign Federal Register notices pertaining to announcements of meetings and other committee management activities for both CDC and the Agency for Toxic Substances and Disease Registry.

Dated: December 22, 2005.
Diane Allen,
Acting Director, Management Analysis and Services Office, Centers for Disease Control and Prevention.

[FR Doc. E5-8100 Filed 12-29-05; 8:45 am]

BILLING CODE 4163-18-P